DEPARTMENT OF LABOR

Employment and Training Administration

Notice of the Task Force on Apprenticeship Expansion Charter Establishment and Public Meeting

AGENCY: Employment and Training Administration (ETA), Labor.

ACTION: Notice.

SUMMARY: The Department of Labor is publishing this notice to announce the establishment of a Charter for the Task Force on Apprenticeship Expansion (hereinafter “the Task Force” or “the panel”), a non-discretionary federal advisory committee authorized pursuant to section 8 of Executive Order 13801, entitled “Expanding Apprenticeships in America” (hereinafter “the Executive Order”), which was issued on June 15, 2017 (82 FR 28229) and which directed the Secretary of Labor to establish and chair such a panel in the Department of Labor and to provide notice, pursuant to section 10 of the Federal Advisory Committee Act (FACA), of the initial public meeting of the Task Force to be held on November 13, 2017.

DATES: The initial public meeting of the Task Force will begin at approximately 3:00 p.m. Eastern Standard Time on November 13, 2017.

ADDRESSES: The meeting will be held at the U.S. Department of Labor, Frances Perkins Building, 200 Constitution Avenue NW., Washington, DC 20210. The Department will post any updates regarding the agenda and meeting logistics to the Task Force Web site: https://www.dol.gov/apprenticeship/task-force.htm.

FOR FURTHER INFORMATION CONTACT: Mr. John V. Ladd, Administrator, Office of Apprenticeship, Employment and Training Administration, U.S. Department of Labor, 200 Constitution Avenue NW., Washington, DC 20210, Telephone: (202) 693-2796 (this is not a toll-free number).

SUPPLEMENTARY INFORMATION:

I. Task Force Charter

The Task Force has been established in accordance with the provisions of FACA, as amended, 5 U.S.C. App. 2, and its implementing regulations (41 CFR 101-6 and 102-3). Interested parties can obtain the Task Force's charter on the Task Force Web site: https://www.dol.gov/apprenticeship/task-force.htm. The Task Force is charged with the mission of identifying strategies and proposals to promote apprenticeships, especially in sectors where apprenticeship programs are insufficient. Upon completion of this assignment, the Task Force shall submit to the President of the United States a final report detailing these strategies and proposals. Pursuant to the Executive Order and the charter, the report must specifically address the following four topics:

• Federal initiatives to promote apprenticeships;

• Administrative and legislative reforms that would facilitate the formation and success of apprenticeship programs;

• The most effective strategies for creating industry-recognized apprenticeships; and

• The most effective strategies for amplifying and encouraging private-sector initiatives to promote apprenticeships.

The Task Force is solely advisory in nature, and will consider testimony, reports, comments, research, evidence, and existing practices as appropriate to develop recommendations for inclusion in its final report to the President. While the Executive Order did not set forth a definite time by which the panel must complete its development of apprenticeship-related strategies and proposals and submit its final report to the President, it is important to note that the Task Force will not be continuing in nature. Additionally, given the nature and mission of the Task Force, some of the meeting proceedings could be included in a regulatory docket for an apprenticeship rulemaking, or other collection of documents made available by the agency for public viewing. Pursuant to both the Executive Order and the Charter, the Task Force shall terminate 30 days after it submits its final report to the President.

Under both the Executive Order and the Charter, the Secretary of Labor shall serve as the Chair of the Task Force. The Secretaries of Education and Commerce shall serve as Vice-Chairs of the Task Force. The Secretary of Labor has appointed the representative members of the Task Force, which consists of twenty (20) individuals who work for or represent the perspectives of trade and industry groups, companies, workforce advocacy organizations, unions, joint labor-management organizations, educational institutions, state or local governments, and such other persons as the Secretary of Labor may from time to time designate. These members include distinguished citizens from outside of the Federal Government with relevant experience concerning the development of a skilled workforce through quality apprenticeship programs. Pursuant to the Executive Order and the charter, a member of the Task Force may designate a senior member of his or her organization to attend any Task Force meeting. Members of the Task Force shall serve without compensation for their work on the Task Force, but shall be allowed travel expenses, including per diem in lieu of subsistence, to the extent permitted by law for persons serving intermittently in the Government service (5 U.S.C. 5701—5707), consistent with the availability of funds. Each member of the Task Force shall serve at the pleasure of the Secretary of Labor for a term that will cease 30 days after the delivery of the panel's final report to the President, at which time the Task Force will be disbanded officially.

II. Initial Public Meeting of the Task Force

In order to promote openness, and increase public participation, a viewing room will be made available for members of the public to observe the meeting proceedings. Registration is required. Instructions on how to register are listed below and will be posted prominently on the Task Force Web site: https://www.dol.gov/apprenticeship/task-force.htm. Members of the public that will view the meeting in-person, from the viewing room, are encouraged to arrive early to allow for security clearance into the U.S. Department of Labor, Frances Perkins Building.

Security and Transportation Instructions for Frances Perkins Building

Meeting participants should use the visitor's entrance to access the Frances Perkins Building, one block north of Constitution Avenue on 3rd and C Streets NW. For security purposes:

1. Visitors must present valid photo identification (ID) to receive a visitor badge.

2. Visitors must know the name of the event you are attending: the meeting event is the Task Force on Apprenticeship Expansion meeting.

3. Visitor badges are issued by the security officer at the Visitor Entrance located at 3rd and C Streets NW., as described above.

4. Laptops and other electronic devices may be inspected and logged for identification purposes.

5. Due to limited parking options, Metro rail is the easiest way to travel to the Frances Perkins Building. For individuals wishing to take metro rail, the closest metro stop to the building is Judiciary Square on the Red Line.

Notice of Intent To Attend the Meeting:

All members of the public are being asked to register for the Task Force meeting by Tuesday, November 7, 2017, via the public registration Web site using the following link: https://secure.thegateam.com/dol-aetf-reg/. Additionally, if individuals have special needs and/or disabilities that will require special accommodations, please send an email to Apprenticeshiptaskforce@dol.gov, subject line “Special Accommodations for the November 2017 Task Force Meeting” no later than Tuesday, November 7, 2017.

The tentative agenda for this meeting includes the following:

• Strategies and proposals to promote apprenticeships

• Federal initiatives to promote apprenticeships

• Administrative and legal reforms

• Effective strategies for creating industry-recognized apprenticeships

• Effective strategies for amplifying and encouraging private-sector initiatives

• Adjourn

Any member of the public who wishes to provide a written statement should send an email to Apprenticeshiptaskforce@dol.gov, subject line “Public Comment November 2017 Task Force Meeting.”

The agenda and meeting logistics may be updated between the time of this publication and the scheduled date of the Task Force meeting. All meeting updates will be posted to the Task Force Web site: https://www.dol.gov/apprenticeship/task-force.htm.

Nancy M. Rooney,
Deputy Assistant Secretary for the Employment and Training Administration.

[FR Doc. 2017-23305 Filed 10-25-17; 8:45 am]

BILLING CODE 4510-FR-P